DEPARTMENT OF COMMERCE

National Oceanic and Atmospheric Administration

50 CFR Part 660

[I.D. 112399D]

Fisheries Off West Coast States and in the Western Pacific; Petition for Rulemaking on the Prohibition of Shark Finning and Related Measures

AGENCY: National Marine Fisheries Service (NMFS), National Oceanic and Atmospheric Administration (NOAA), Commerce.

ACTION: Notice of receipt of petition for rulemaking; request for comments.

SUMMARY: NMFS announces receipt of, and requests public comment on, a petition for rulemaking. The Western Pacific Fisheries Coalition (Petitioner), consisting of the Hawaii Fishermen's Foundation and Hawaii Audubon Society, has petitioned the Secretary of Commerce (Secretary) to prohibit shark finning (i.e., removal of only the fins and returning the remainder of the shark to the sea), and implement measures to require full utilization of sharks harvested in fisheries conducted under the Fishery Management Plan for the Pelagic Fisheries of the Western Pacific Region (FMP).

DATES: Comments on the petition must be received by NMFS no later than May 12, 2000.

ADDRESSES: Written comments should be sent to, and copies of the petition are available from, Dr. Charles Karnella, Administrator, Pacific Islands Area Office, NMFS, 1601 Kapiolani Blvd., Rm 110, Honolulu, HI 96814. Please mark the outside of the envelope “Shark Petition.” Comments also may be sent via facsimile (fax) to 808-973-2941. Comments submitted via e-mail or Internet will not be accepted.

FOR FURTHER INFORMATION CONTACT: Alvin Katekaru, 808-973-2935 ext. 207, fax 808-973-2941, e-mail alvin.katekaru@noaa.gov

SUPPLEMENTARY INFORMATION: The fishery affected by this petition for rulemaking is primarily the Hawaii-based longline fishery, which is managed according to the FMP developed by the Western Pacific Regional Fishery Management Council (Council). The Secretary has management authority, under the Magnuson-Stevens Fishery Conservation and Management Act, over the shark resources in the U.S. Exclusive Economic Zone of the western Pacific region.

The purpose of the petition is to facilitate maximum utilization of sharks harvested in the western Pacific, particularly in the Hawaii longline fishery. The Petitioner maintains that the continued unrestricted practice of shark finning in the fishery is wasteful and could lead to overexploitation of certain vulnerable shark species that are managed under the FMP. A prohibition on shark finning would be consistent with the United Nations Food and Agriculture Organization's International Plan of Action for the Conservation and Management of Sharks.

The Petitioner requests the Secretary to amend the FMP and to promulgate regulations for the western Pacific region that would govern the possession at-sea and landing of sharks, as well as implement restrictions on the sale/purchase of sharks, similar to those contained in the regulations implementing the Fishery Management Plan for Atlantic Tunas, Swordfish, and Sharks (50 CFR 635.30(c); 64 FR 29090, May 28, 1999). Such regulations would be precautionary and would likely reduce the harvest of Pacific shark stocks, including the relatively abundant blue shark.

NMFS requests comments on the petition for rulemaking. NMFS recognizes that shark fin transshipments and importation of processed shark fins into the United States are closely related to the conservation and management issues raised in this petition. In addition to comments on the petition for rulemaking, NMFS requests public comment addressing the practice of shark finning as it relates to transshipments and importation of processed fins. NMFS will consider this information in determining whether to proceed with the development of regulations requested by the Petitioner.

Authority: 16 U.S.C. 1801 et seq.

Dated: April 7, 2000.
Andrew A. Rosenberg,
Deputy Assistant Administrator for Fisheries, National Marine Fisheries Service.

[FR Doc. 00-9071 Filed 4-7-00; 3:54 pm]

BILLING CODE 3510-22-F